DEPARTMENT OF THE INTERIOR

Bureau of Land Management

[UT-090-1610-017J]

Notice of Availability of Record of Decision for the Monticello Field Office Approved Resource Management Plan

AGENCY: Bureau of Land Management, Interior.

ACTION: Notice of availability.

SUMMARY: The BLM announces the availability of the Approved Resource Management Plan (RMP)/Record of Decision (ROD) for the Monticello Field Office located in Utah. The Department of the Interior Assistant Secretary for Land and Minerals Management signed the ROD on November 17, 2008, which constitutes the final decision of the Department of the Interior and makes the Approved RMP effective immediately.

ADDRESSES: Copies of the Approved RMP/ROD are available upon request at the BLM Monticello Field Office, 365 North Main, Monticello, UT 84535, or via the Internet at http://www.blm.gov/ut/st/en/fo/monticello/planning/html.

FOR FURTHER INFORMATION CONTACT: BLM Monticello Field Office, Nick Sandberg, Associate Field Office Manager, telephone (435) 587-1500; 365 N. Main, Monticello, Utah 84535.

SUPPLEMENTARY INFORMATION: This Approved RMP was developed with multiple opportunities for public participation through a multi-year collaborative planning process. The BLM sought participation from the public, tribes, and local, State, and Federal agencies in the development of this RMP and will continue to pursue partnerships in the management of public lands. No inconsistencies with State or local plans, policies, or programs were identified during the Governor's consistency review of the Proposed RMP/Final Environmental Impact Statement (EIS). The Approved RMP is designed to achieve or maintain desired future conditions identified through the planning process.

The Monticello Field Office Approved RMP/ROD addresses management of approximately 1.8 million acres of BLM-administered surface lands and 2.5 million acres of federally owned mineral estate in San Juan County and a small portion of Grand County, Utah. The planning effort addressed a variety of management issues, including: Cultural resources; recreation and off-highway vehicle management; visual resources; woodlands products; special designations, including Areas of Critical Environmental Concern (ACEC) and suitability recommendations for wild and scenic rivers; range management and livestock grazing; lands with wilderness characteristics; oil, gas and mining; and special status species, among others. The Monticello Approved RMP/ROD is nearly the same as Alternative C in the Monticello Proposed RMP/Final EIS, published in September 2008, and carries forward the designation decision for seven ACECs, as described in the Proposed RMP/Final EIS.

The BLM Director's Office has dismissed or resolved each of the 20 protests received, thus allowing for immediate implementation of the Approved RMP. This ROD serves as the final decision by the Department of the Interior for the land use plan and implementation level decisions in the Approved RMP.

Jeff Rawson,
Acting State Director.

[FR Doc. E8-27460 Filed 11-18-08; 8:45 am]

BILLING CODE 4310-DQ-P